NUCLEAR REGULATORY COMMISSION

[Docket No. NRC-2009-0040]

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on February 2, 2009.

1. Type of Submission, New, Revision, or Extension: Extension.

2. The Title of the Information Collection: Billing Instructions for NRC Cost Type Contracts.

3. Current OMB Approval Number: 3150-0109.

4. The Form Number if Applicable: None.

5. How Often the Collection Is Required: Monthly and on occasion.

6. Who Will Be Required or Asked To Report: NRC Contractors.

7. An Estimate of the Number of Annual Responses: 2,404.

8. The Estimated Number of Annual Respondents: 64.

9. An Estimate of the Total Number of Hours Needed Annually To Complete the Requirement or Request: 1,202.

10. Abstract: In administering its contracts, the NRC Division of Contracts provides billing instructions for its contractors to follow in preparing invoices. These instructions stipulate the level of detail in which supporting data must be submitted for NRC review. The review of this information ensures that all payments made by NRC for valid and reasonable costs are in accordance with the contract terms and conditions.

A copy of the final supporting statement may be viewed free of charge at the NRC Public Document Room, One White Flint North, 11555 Rockville Pike, Room O-1 F21, Rockville, MD 20852. OMB clearance requests are available at the NRC Worldwide Web site: http://www.nrc.gov/public-involve/doc-comment/omb/index.html. The document will be available on the NRC home page site for 60 days after the signature date of this notice.

Comments and questions should be directed to the OMB reviewer listed below by June 22, 2009. Comments received after this date will be considered if it is practical to do so, but assurance of consideration cannot be given to comments received after this date.

NRC Desk Officer, Office of Information and Regulatory Affairs (3150-0109), NEOB-10202, Office of Management and Budget, Washington, DC 20503.

The NRC Clearance Officer is Gregory Trussell, (301) 415-6445.

Dated at Rockville, Maryland, this 15th day of May 2009.
For the Nuclear Regulatory Commission.
Tremaine Donnell,
Acting NRC Clearance Officer, Office of Information Services.

[FR Doc. E9-11876 Filed 5-20-09; 8:45 am]

BILLING CODE 7590-01-P